INTERNATIONAL TRADE COMMISSION

[Investigation No. 332-608]

USMCA Automotive Rules of Origin: Economic Impact and Operation, 2027 Report; Notice of Investigation and Scheduling of Public Hearing; Correction

AGENCY: U.S. International Trade Commission.

ACTION: Notice; correction.

SUMMARY: Corrections are made to the deadlines for requesting to appear at the hearing, filing prehearing briefs and statements, submitting electronic copies of oral testimony to be presented at the hearing, filing posthearing briefs and statements, and filing written submissions and summaries of views of interested persons.

SUPPLEMENTARY INFORMATION:

Corrections

In the Federal Register of February 23, 2026 (91 FR 8521) in FR Doc. 2026-03499, on page 8522, in the first column, in the Public hearing section, the date of the deadline for requests to appear at the hearing should be September 29, 2026. The date of the deadline for filing all prehearing briefs and statements should be October 1, 2026. The date of the deadline for submitting electronic copies of oral testimony to be presented at the hearing should be October 6, 2026. The date of the deadline for filing posthearing briefs and statements should be October 21, 2026. The date that the hearing will be canceled in the event that no witnesses are scheduled to appear should be September 29, 2026. On page 8522, in the second column, in the Written submissions section, the date of the deadline for filing all written submissions should be November 2, 2026. On page 8523, in the first column, in the Summaries of views of interested persons section, the date of the deadline for filing summaries of views should be November 2, 2026.

Issued: February 23, 2026.
Lisa Barton,
Secretary to the Commission.

[FR Doc. 2026-03841 Filed 2-25-26; 8:45 am]

BILLING CODE 7020-02-P